DEPARTMENT OF HOMELAND SECURITY

Agency Information Collection Activities: Post-Award Contract Information

AGENCY: Office of Chief Procurement Officer, DHS.

ACTION: 30-Day Notice and request for comments; Extension without Change, 1600-0003.

SUMMARY: The Department of Homeland Security, Office of Chief Procurement Officer, DHS will submit the following information collection request (ICR) to the Office of Management and Budget (OMB) for review and clearance in accordance with the Paperwork Reduction Act of 1995 (Pub. L. 104-13, 44 U.S.C. Chapter 35). DHS previously published this information collection request (ICR) in the Federal Register on August 31, 2011 at 76 FR 54242 for a 60-day public comment period. No comments were received by DHS. The purpose of this notice is to allow additional 30-days for public comments.

DATES: Comments are encouraged and will be accepted until February 27, 2012. This process is conducted in accordance with 5 CFR 1320.10.

ADDRESSES: Interested persons are invited to submit written comments on the proposed information collection to the Office of Information and Regulatory Affairs, Office of Management and Budget. Comments should be addressed to OMB Desk Officer, Department of Homeland Security and sent via electronic mail to oira_submission@omb.eop.gov or faxed to (202) 395-5806.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: The Department of Homeland Security (DHS), Office of Chief Procurement Officer, Acquisition Policy and Legislation Office, DHS Attn.: Camara Francis, Department of Homeland Security, Office of the Chief Procurement Officer, Room 3114, Washington, DC 20528, Camara.Francis@hq.dhs.gov, (202) 447-5904.

SUPPLEMENTARY INFORMATION: The Department of Homeland Security (DHS) Components and the Office of the Chief Procurement Officer collect information, when necessary in administering public contracts for supplies and services. The information is used to determine compliance with contract terms placed in the contract as authorized by the Federal Property and Administrative Services Act (41 U.S.C. 251 et seq.) and the Federal Acquisition Regulation (FAR) (48 CFR chapter 1). Source selection documentation, Government estimate of contract price, contract modifications, Small Business Administration Certificate of Competency, Justification and approvals, determination and finding are examples of the kinds of post-award contract information that is collected are identified in pertinent sections of FAR 4.803, Contents of contract files. The complete FAR can be viewed on the Internet at http://www.arnet.gov.

The information requested is used by the Government's contracting officers and other acquisition personnel, including technical and legal staffs to determine contractor's technical and management progress and controls of the firms holding public contracts to determine if the firms are making appropriate progress in work agreed to and are otherwise performing in the Government's best interest. Payment of a firm's invoices (or non-payment) and/or corrective action may result from such reviews. If this information were not collected, the Government would jeopardize its operations by failing to exercise its responsibility for a major internal control in its contracts' post-award phase. Many sources of the requested information use automated word processing systems, databases, spreadsheets, project management and other commercial software to facilitate preparation of material to be submitted, particularly in the submission of periodic (e.g., monthly) reports that describe contractor performance and progress of work . With Governmentwide implementation of e-Government initiatives, it is commonplace within many of DHS's Components for submissions to be electronic.

According to Federal Procurement Data System-Next Generation (FPDS-NG) the number of Post-Contract award information has increased each year over the past two years in annual respondent and burden hours. This increase is the result of a new estimate of awards, which contributes to the Post-Award information that is collected. This collection was previously approved by OMB on January 26, 2009. This collection will be submitted to OMB for review to request approval to extend the collection past the current expiration date of January 31, 2011. There are no proposed changes to the information being collected, instructions, frequency of the collection or the use of the information being collected.

Analysis

Agency: Office of Chief Procurement Officer, DHS.

Title: Post-Award Contract Information.

OMB Number: 1600-0003.

Frequency: On Occasion.

Affected Public: Private Sector.

Number of Respondents: 8,000.

Estimated Time per Respondent: 14 hours.

Total Burden Hours: 336,000.

Dated: January 18, 2012.
Margaret H. Graves,
Deputy Chief Information Officer.

[FR Doc. 2012-1571 Filed 1-25-12; 8:45 am]

BILLING CODE 9110-9B-P